DEPARTMENT OF TRANSPORTATION

National Highway Traffic Safety Administration

49 CFR Part 571

[Docket No. NHTSA-2009-0116]

RIN 2127-AK35

Federal Motor Vehicle Safety Standards; Door Locks and Door Retention Components, Correction

AGENCY: National Highway Traffic Safety Administration (NHTSA), Department of Transportation (DOT).

ACTION: Final rule; correction.

SUMMARY: NHTSA published in the Federal Register of July 20, 2009, a document delaying the compliance date of the sliding door provisions of a February 6, 2007 final rule. The regulatory text adopted by that document contained errors. This document corrects those errors.

DATES: Effective on September 1, 2009.

FOR FURTHER INFORMATION CONTACT: Ms. Sarah Alves, NHTSA Office of the Chief Counsel, DOT, 1200 New Jersey Avenue, SE., Washington, DC 20590, telephone (202) 366-2992, fax (202) 366-3820.

SUPPLEMENTARY INFORMATION:

Background

NHTSA published in the Federal Register of July 20, 2009 (74 FR 35131), a document delaying the compliance date of the sliding door provisions of a February 6, 2007 final rule (FR Doc. E9-17078). In the regulatory text adopted by that document, in S4.2.2.3, a statement erroneously reads: “This S4.2.2.3 applies to vehicle manufactured on or after September 1, 2010.” The statement should read: “This S4.2.2 applies to vehicles manufactured on or after September 1, 2010.” This document corrects that error.

Correction of Publication

In rule FR Doc. E9-17078 published on July 20, 2009 (74 FR 35131), make the following correction. On page 35135, in the third column, S4.2.2.3 is corrected to read as follows:

S4.2.2.3 This S4.2.2 applies to vehicles manufactured on or after September 1, 2010.

Issued: July 23, 2009.
Stephen R. Kratzke,
Associate Administrator for Rulemaking.

[FR Doc. E9-17918 Filed 7-27-09; 8:45 am]

BILLING CODE 4910-59-P